DEPARTMENT OF TRANSPORTATION

Federal Aviation Administration

14 CFR Part 39

[Docket No. FAA-2012-0190; Directorate Identifier 2012-NM-033-AD; Amendment 39-16979; AD 2012-05-07]

RIN 2120-AA64

Airworthiness Directives; Bombardier, Inc.

AGENCY: Federal Aviation Administration (FAA), DOT.

ACTION: Final rule; request for comments.

SUMMARY: We are adopting a new airworthiness directive (AD) for certain Bombardier, Inc. Model DHC-8-102, -103, and -106 airplanes. This AD requires a general visual inspection for chamfer of the upper edge of each leaf spring, and rework if necessary. This AD also requires installing a new friction brake nut. This AD was prompted by reports that it was possible to inadvertently move the power levers through the flight idle gate into the beta range due to an un-chamfered leaf spring in the friction brake that may contact the power lever latch when the friction adjusting knob is fully loosened. We are issuing this AD to detect and correct an unsafe condition where both engines can inadvertently be operated in beta mode during flight and consequently reduce controllability of the airplane.

DATES: This AD becomes effective April 4, 2012.

The Director of the Federal Register approved the incorporation by reference of certain publications listed in the AD as of April 4, 2012.

We must receive comments on this AD by May 4, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Mazdak Hobbi, Aerospace Engineer, Propulsion and Services Branch, ANE-173, FAA, New York Aircraft Certification Office, 1600 Stewart Avenue Suite 410, Westbury, NY 11590; telephone (516) 228-7330; fax (516) 794-5531.

SUPPLEMENTARY INFORMATION:

Discussion

Transport Canada Civil Aviation (TCCA) which is the aviation authority for Canada, has issued Canadian Emergency Airworthiness Directive CF-2012-08, dated January 30, 2012 (referred to after this as “the MCAI”), to correct an unsafe condition for the specified products. The MCAI states:

During maintenance, it was discovered that it was possible to inadvertently move the power levers through the flight idle gate into the beta range. An investigation revealed that an un-chamfered leaf spring in the friction brake may contact the power lever latch when the friction adjusting knob is fully loosened. This can result in the lifting of the power lever latch and allow the power levers to pass through the flight idle gate without lifting the triggers.

Further investigation also determined that an un-chamfered spring installation with a pre-Service Bulletin (SB) 8-76-2 (Modification 8/0443) friction brake nut can further increase the possibility of allowing power levers to pass through the flight idle gate without lifting the triggers, when the friction adjusting knob is fully loosened.

The above discrepancies, if not corrected, may result in an unsafe condition where both engines can inadvertently be operated in beta mode during flight.

In order to address this potentially unsafe condition, Bombardier has issued:

• Alert Service Bulletin (ASB) A8-76-32 requiring operators to inspect [general visual inspection] the springs and chamfer [rework] the springs as applicable, and

• SB 8-76-02 Rev. A to replace the pre-SB 8-76-2 (Mod 8/0443) original friction brake nut with a new friction brake nut with larger shoulders.

This [TCCA] Airworthiness Directive (AD) is being issued to mandate compliance with Bombardier ASB A8-76-32 and SB 8-76-02 Rev. A requirements on the affected aeroplanes.

You may obtain further information by examining the MCAI in the AD docket.

Relevant Service Information

Bombardier has issued the following service bulletins:

• Alert Service Bulletin A8-76-32, dated January 27, 2012.

• Service Bulletin 8-76-02, Revision “A,” dated January 25, 2012.

The actions described in this service information are intended to correct the unsafe condition identified in the MCAI.

FAA's Determination and Requirements of this AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

An unsafe condition exists that requires the immediate adoption of this AD. The FAA has found that the risk to the flying public justifies waiving notice and comment prior to adoption of this rule because there have been reports that it was possible to inadvertently move the power levers through the flight idle gate into the beta range due to an un-chamfered leaf spring in the friction brake that may contact the power lever latch when the friction adjusting knob is fully loosened. This can result in the lifting of the power lever latch and allow the power levers to pass through the flight idle gate without lifting the triggers. Also, a certain un-chamfered spring installation with a friction brake nut can further increase the possibility of allowing power levers to pass through the flight idle gate without lifting the triggers, when the friction adjusting knob is fully loosened. These conditions, if not corrected, may result in an unsafe condition where both engines can inadvertently be operated in beta mode during flight and consequently reduce controllability of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2012-0190; Directorate Identifier 2012-NM-033-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-05-07 Bombardier, Inc.: Amendment 39-16979. Docket No. FAA-2012-0190; Directorate Identifier 2012-NM-033-AD.

(a) Effective Date

This airworthiness directive (AD) becomes effective April 4, 2012.

(b) Affected ADs

None.

(c) Applicability

This AD applies to Bombardier, Inc. Model DHC-8-102, -103, and -106 airplanes, certificated in any category, serial numbers 003 through 039 inclusive.

(d) Subject

Air Transport Association (ATA) of America Code 76: Engine Controls.

(e) Reason

This AD was prompted by reports that it was possible to inadvertently move the power levers through the flight idle gate into the beta range due to an un-chamfered leaf spring in the friction brake that may contact the power lever latch when the friction adjusting knob is fully loosened. We are issuing this AD to detect and correct an unsafe condition where both engines can inadvertently be operated in beta mode during flight and consequently reduce controllability of the airplane.

(f) Compliance

You are responsible for having the actions required by this AD performed within the compliance times specified, unless the actions have already been done.

(g) Actions

Within 50 flight hours or 10 days, whichever occurs first, after the effective date of this AD, do the actions specified in paragraphs (g)(1) and (g)(2) of this AD.

(1) Do a general visual inspection of the upper edge of each leaf spring for chamfer, in accordance with the Accomplishment Instructions of Bombardier Alert Service Bulletin A8-76-32, dated January 27, 2012. Do all applicable rework before further flight, in accordance with the Accomplishment Instructions of Bombardier Alert Service Bulletin A8-76-32, dated January 27, 2012.

(2) Install a new friction brake nut, in accordance with the Accomplishment Instructions of Bombardier Service Bulletin 8-76-02, Revision `A,' dated January 25, 2012.

(h) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI Canadian Airworthiness Directive CF-2012-08, dated January 30, 2012; Bombardier Alert Service Bulletin A8-76-32, dated January 27, 2012; and Bombardier Service Bulletin 8-76-02, Revision `A,' dated January 25, 2012; for related information.

(j) Material Incorporated by Reference

(1) You must use the following service information to do the actions required by this AD, unless the AD specifies otherwise. The Director of the Federal Register approved the incorporation by reference (IBR) of the following service information under 5 U.S.C. 552(a) and 1 CFR part 51:

(i) Bombardier Alert Service Bulletin A8-76-32, dated January 27, 2012.

(ii) Bombardier Service Bulletin 8-76-02, Revision “A,” dated January 25, 2012.

(2) For service information identified in this AD, contact Bombardier, Inc., Q-Series Technical Help Desk, 123 Garratt Boulevard, Toronto, Ontario M3K 1Y5, Canada; telephone 416-375-4000; fax 416-375-4539; email thd.qseries@aero.bombardier.com; Internet http://www.bombardier.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on March 2, 2012.
Kalene C. Yanamura,
Acting Manager, Transport Airplane Directorate, Aircraft Certification Service.

[FR Doc. 2012-6439 Filed 3-19-12; 8:45 am]

BILLING CODE 4910-13-P